DEPARTMENT OF COMMERCE

Foreign-Trade Zones Board

[S-27-2014]

Foreign-Trade Zone 143—West Sacramento, California; Application for Subzone; Mitsubishi Rayon Carbon Fiber and Composites, Inc., Sacramento, California

An application has been submitted to the Foreign-Trade Zones (FTZ) Board by the Sacramento—Yolo Port District, grantee of FTZ 143, requesting subzone status for the facilities of Mitsubishi Rayon Carbon Fiber and Composites, Inc. (Mitsubishi Rayon), located in Sacramento, California. The application was submitted pursuant to the provisions of the Foreign-Trade Zones Act, as amended (19 U.S.C. 81a-81u), and the regulations of the FTZ Board (15 CFR part 400). It was formally docketed on March 26, 2014.

The proposed subzone would consist of the following sites: Site 1 (10 acres)—5900 88th Street, Sacramento; and, Site 2 (1.05 acres)—6003 88th Street, Sacramento. An application for production authority is currently pending with the FTZ Board. The Mitsubishi Rayon facilities (formerly Grafil, Inc.) are currently designated as Subzone 143D, with authority expiring on May 7, 2014. The proposed subzone would be subject to the existing activation limit of FTZ 143.

In accordance with the FTZ Board's regulations, Christopher Kemp of the FTZ Staff is designated examiner to review the application and make recommendations to the Executive Secretary.

Public comment is invited from interested parties. Submissions shall be addressed to the FTZ Board's Executive Secretary at the address below. The closing period for their receipt is April 30, 2014. Rebuttal comments in response to material submitted during the foregoing period may be submitted during the subsequent 15-day period to May 15, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: March 26, 2014.
Andrew McGilvray,
Executive Secretary.

[FR Doc. 2014-07136 Filed 3-28-14; 8:45 am]

BILLING CODE 3510-DS-P